CORPORATION FOR NATIONAL AND COMMUNITY SERVICE

Sunshine Act Notice

The President's Council on Service and Civic Participation gives notice of the following meeting:

Date and Time: Wednesday, October 12, 2006, 2 p.m.-3:30 p.m.

Place: Rayburn House Office Building, Independence Ave.—between 1st Street, NW., and South Capitol Street; Gold Room; Washington, DC 20515.

Status: Open.

Matters to be Considered:

I. Opening Remarks and Welcome from Council Chair.

II. Swearing-in Ceremony of new Council Members.

III. Report on Council Activities.

IV. Students Engaged in Service Panel.

V. Presentation of President's Volunteer Service Awards.

VI. Consideration of Gulf Coast Resolution.

VII. Closing Remarks.

VIII. Adjournment.

Accommodations: Anyone who needs an interpreter or other accommodation should notify the Corporation's contact person by 5 p.m., Friday, October 7, 2006.

Contact Person for More Information: David Premo, Public Affairs Associate, Public Affairs, Corporation for National and Community Service, 10th Floor, Room 10302E, 1201 New York Avenue, NW., Washington, DC 20525. Phone (202) 606-6717. Fax (202) 606-3460. TDD: (202) 606-3472. E-mail: dpremo@cns.gov.

Dated: October 2, 2006.
Frank R. Trinity,
General Counsel.

[FR Doc. 06-8534 Filed 10-3-06; 11:58 am]

BILLING CODE 6050-$$-P